ENVIRONMENTAL PROTECTION AGENCY

[FRL-8495-3]

Science Advisory Board Staff Office, Clean Air Scientific Advisory Committee (CASAC); Notification of a Public Advisory Committee Meeting of the CASAC Sulfur Oxides (SOx) Primary NAAQS Review Panel

AGENCY: Environmental Protection Agency (EPA).

ACTION: Notice.

SUMMARY: The Environmental Protection Agency (EPA) Science Advisory Board (SAB) Staff Office announces a public meeting of the Clean Air Scientific Advisory Committee's (CASAC) Sulfur Oxides (SOx) Primary NAAQS Review Panel (Panel) to conduct a peer review of EPA's Integrated Science Assessment for Sulfur Oxides—Health Criteria (First External Review Draft) (EPA/600/R-07/108, September 2007) and to conduct a consultation on the EPA's Sulfur Oxides Health Assessment Plan: Scope and Methods for Exposure and Risk Assessment.

DATES: The meeting will be held from 8:30 a.m. to 5 p.m. (Eastern Time) on Wednesday, December 5, 2007, and 8:30 a.m. to 2 p.m. on Thursday, December 6, 2007.

Location: The meeting will take place at the Marriott at Research Triangle Park, 4700 Guardian Drive, Durham, NC, 27703, telephone: (919) 941-6200.

FOR FURTHER INFORMATION CONTACT: Any member of the public who wishes to submit a written or brief oral statement (five minutes or less) or wants further information concerning this meeting must contact Dr. Holly Stallworth, Designated Federal Officer (DFO), EPA Science Advisory Board (1400F), U.S. Environmental Protection Agency, 1200 Pennsylvania Avenue, NW., Washington, DC 20460; via telephone/voice mail: (202) 343-9867; fax: (202) 233-0643; or e-mail at: stallworth.holly@epa.gov. General information concerning the CASAC or the EPA Science Advisory Board can be found on the EPA Web site at: http://www.epa.gov/sab.

SUPPLEMENTARY INFORMATION: Background: EPA is in the process of reviewing the primary National Ambient Air Quality Standards (NAAQS) for sulfur oxides. Under the Clean Air Act, EPA is required to carry out a periodic review and revision, as appropriate, of the air quality criteria and the NAAQS for six criteria air pollutants, which include sulfur oxides. Primary standards set limits to protect public health, including the health of “sensitive” populations such as asthmatics, children, and the elderly.

As part of that process, EPA's Office of Research and Development (ORD) has completed a draft document, Integrated Science Assessment for Sulfur Oxides—Health Criteria (First External Review Draft) (EPA/600/R-07/108, September 2007) and has requested that CASAC peer review the document. EPA's Office of Air and Radiation (OAR) will also release a document entitled Sulfur Oxides Health Assessment Plan: Scope and Methods for Exposure and Risk Assessment and has requested that the CASAC provide consultative advice to assist the Agency in developing human exposure and health risk assessments for sulfur oxides. EPA has released an integrated plan for all aspects of this review of the primary SO2 standard, Integrated Plan for Review of the Primary National Ambient Air Quality Standards for Sulfur Oxides (October 2007), which reflects advice provided by the CASAC panel through a consultation on a draft of that document, Draft Integrated Plan for Review of the Primary National Ambient Air Quality Standards for Sulfur Dioxides (April 2007). Background information about the CASAC SOx review activities and about formation of the CASAC Panel was published in the Federal Register on August 7, 2006 (71 FR 44695-44696).

Technical Contact: Any questions concerning EPA's Integrated Science Assessment for Sulfur Oxides—Health Criteria (First External Review Draft) should be directed to Dr. Jee Young Kim in EPA's Office of Research and Development at (919) 541-4157 or kim.jee-young@epa.gov. Any questions concerning EPA's Sulfur Oxides Health Assessment Plan: Scope and Methods for Exposure and Risk Assessment should be directed to Dr. Stephen Graham in EPA's Office of Air and Radiation at (919) 541-4344 or graham.stephen@epa.gov.

Availability of Meeting Materials: EPA-ORD's Integrated Science Assessment for Sulfur Oxides—Health Criteria (First External Review Draft) can be accessed at: http://www.epa.gov/ttn/naaqs/standards/so2/s_so2_cr_isa.html. EPA-OAR's Sulfur Oxides Health Assessment Plan: Scope and Methods for Exposure and Risk Assessment will be accessible at: http://www.epa.gov/ttn/naaqs/standards/so2/s_so2_index.html. Agendas and materials in support of meeting will be placed on the SAB Web site at: http://www.epa.gov/sab in advance of the meeting.

Procedures for Providing Public Input: Interested members of the public may submit relevant written or oral information for the CASAC Panel to consider during the advisory process. Oral Statements: In general, individuals or groups requesting an oral presentation at a public meeting will be limited to five minutes per speaker, with no more than a total of one hour for all speakers. Interested parties should contact Dr. Stallworth, DFO, in writing (preferably via e-mail) by November 30, 2007 at the contact information noted above, to be placed on the public speaker list for this meeting. Written Statements: Written statements should be received in the SAB Staff Office by November 30, 2007, so that the information may be made available to the Panel for their consideration prior to this meeting. Written statements should be supplied to the DFO in the following formats: one hard copy with original signature (optional), and one electronic copy via e-mail (acceptable file format: Adobe Acrobat PDF, WordPerfect, MS Word, MS PowerPoint, or Rich Text files in IBM-PC/Windows 98/2000/XP format).

Accessibility: For information on access or services for individuals with disabilities, please contact Dr. Stallworth at the phone number or e-mail address noted above, preferably at least ten days prior to the meeting, to give EPA as much time as possible to process your request.

Dated: November 8, 2007.
Anthony F. Maciorowski,
Deputy Director, EPA Science Advisory Board Staff Office.

[FR Doc. E7-22372 Filed 11-14-07; 8:45 am]

BILLING CODE 6560-50-P